DEPARTMENT OF HEALTH AND HUMAN SERVICES

Administration for Children and Families

Submission for OMB Review; Comment Request

Title: Protection and Advocacy (P&A) Voting Access Annual Report.

OMB No.: 0970-0326.

Description: This is a revision of the annual report for the previously cleared Help America Vote Act (HAVA) Annual report.

By Federal statute (the Help America Vote Act (HAVA) of 2002, Public Law 107-252, Section 265(b), Reports, 42 U.S.C. 15461) the governing agency is mandated to submit a report to the Committee on House Administration of the House of Representatives and the Committee on Rules and Administration of the Senate. As a result of the mandate, each State Protection & Advocacy (P&A) System receiving funds and activities carried out under HAVA Section 291 are requested to prepare an annual in accordance with the grant terms and conditions. The purpose of the annual report is to obtain information from each state/territory to use in the Congressional report submitted by the Secretary of the U.S. Department of Health and Human Services.

Respondents: Protection & Advocacy Systems—All States, the District of Columbia, Puerto Rico, the U.S. Virgin Islands, American Samoa, and Guam.

Annual Burden Estimates
Instrument | Number of respondents | Number of responses per respondent | Average burden hours per response | Total burden hours
Protection and Advocacy (P&A) Voting Access Annual Report | 55 | 1 | 20 | 1,100

Estimated Total Annual Burden Hours: 1,100.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2012-7708 Filed 3-29-12; 8:45 am]

BILLING CODE 4184-01-P